DEPARTMENT OF ENERGY

Federal Energy Regulatory Commission

[Docket No. RP03-254-000]

Great Lakes Gas Transmission Limited Partnership; Notice of Tariff Filing

February 20, 2003.

Take notice that on February 13, 2003, Great Lakes Gas Transmission Limited Partnership (Great Lakes) tendered for filing as part of its FERC Gas Tariff, Second Revised Volume No. 1, the following tariff sheets, proposed to be effective April 1, 2003:

Thirteenth Revised Sheet No. 1

First Revised Sheet No. 38

Great Lakes states that the proposed revised tariff sheets are being filed to remove Section 14 of the General Terms and Conditions, “Firm Capacity Assignment

Under 18 CFR 284.242”, from its tariff, in compliance with the Commission's Order No. 892. This Order amends the Commission's regulations by removing subpart H of part 284 (18 CFR 284.241 and 284.242), which had required interstate natural gas pipelines to assign capacity they held on other interstate pipelines to their firm shippers.

Any person desiring to be heard or to protest said filing should file a motion to intervene or a protest with the Federal Energy Regulatory Commission, 888 First Street, NE., Washington, DC 20426, in accordance with sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 25, 2003.

Magalie R. Salas,
Secretary.

[FR Doc. 03-4467 Filed 2-25-03; 8:45 am]

BILLING CODE 6717-01-P